DEPARTMENT OF TRANSPORTATION

National Highway Traffic Safety Administration

Petition for Exemption from the Federal Motor Vehicle Motor Theft Prevention Standard; Volkswagen

AGENCY: National Highway Traffic Safety Administration (NHTSA), Department of Transportation (DOT).

ACTION: Grant of petition for exemption.

SUMMARY: This document grants in full the petition of Volkswagen of America, Inc. (VW) for an exemption of a new high-theft line, the Audi allroad Quattro, from the parts-marking requirements of the Federal motor vehicle theft prevention standard. The petition is granted because the agency has determined that the antitheft device to be placed on the line as standard equipment is likely to be as effective in reducing and deterring motor vehicle theft as compliance with the parts-marking requirements of the Theft Prevention Standard.

DATES: The exemption granted by this notice is effective beginning with the 2001 model year.

FOR FURTHER INFORMATION CONTACT: Ms. Rosalind Proctor, Office of Planning and Consumer Programs, NHTSA, 400 Seventh Street, SW., Washington D.C. 20590. Ms. Proctor's phone number is (202) 366-0846. Her fax number is (202) 493-2290.

SUPPLEMENTARY INFORMATION: In a petition dated January 4, 2000, VW requested an exemption from the parts-marking requirements of 49 CFR Part 541, Federal Motor Vehicle Theft Prevention Standard, for the Audi allroad Quattro, a new high-theft vehicle line beginning in MY 2001. The petition requested an exemption from parts-marking pursuant to 49 CFR 543, Exemption from Vehicle Theft Prevention Standard, based on the installation of an antitheft device as standard equipment for the entire vehicle line.

Review of VW's petition disclosed that certain information was not provided in its original petition. Consequently, by telephone call on March 17, 2000, VW was informed of its omissions. Subsequently on March 22, 2000, VW submitted supplemental information providing the omitted information. VW's March 22, 2000 submission constitutes a complete petition, as required by 49 CFR Part 543.7, in that it met the general requirements contained in § 543.5 and the specific content requirements of § 543.6.

In its petition, VW provided a detailed description and diagram of the identity, design, and location of the components of the antitheft device for the new line. This antitheft device includes: (1) An alarm system that activates the vehicle's emergency flasher system and horn in the event unauthorized entry is attempted through any of the doors, the rear hatch, or the engine compartment; (2) an ultrasonic interior monitoring system to detect window breakage or movement inside the vehicle; and (3) an electronic engine immobilizer which utilizes a transponder in the ignition key.

In order to ensure the reliability and durability of the device, VW conducted tests based on its own specified standards. VW provided a detailed list of tests conducted. Because the device complied with these tests, VW believes that the device is reliable and durable.

Volkswagen believes the proposed device will be as effective in deterring motor vehicle theft as the devices used in lines for which NHTSA has already granted a parts-marking exemption. Specifically, Volkswagen based its belief on the theft rate experience of several lines with similar devices which have experienced significant theft rate reductions, such as the Mitsubishi Diamante, the Toyota Cressida, the Nissan Maxima, the Toyota Supra, the Nissan 300ZX, the Mazda RX-7, the Audi 5000, the Ford Taurus and some General Motors Chevrolet, Pontiac and Cadillac car lines.

Additionally, VW compared theft rate experiences of its 1992 Jetta and Golf/GTI vehicles (with no alarm system) to the theft rate experiences of its 1993, 1994 and 1997 model years Jetta and Golf/GTI vehicles (with a standard alarm system) to demonstrate the effects of a standard alarm systems installation. Based on data from the FBI's National Crime Information Center (NCIC), VW showed that the theft rates for the 1993, 1994 and 1997 Jetta and Golf/GTI vehicles that have been equipped with a standard alarm system resulted in a significant decrease in theft rates from its MY 1992 vehicles. The theft rates for the 1993, 1994 and 1997 Jetta vehicles were 0.7699, 2.4344 and 2.6010, respectively, down from the 1992 theft rate of 7.5005. The theft rates for the 1993, 1994 and 1997 Golf/GTI vehicles were 0.6789, 1.5329 and 2.6010, respectively, down from the 1992 theft rate of 20.2320.

VW stated that the Vehicle Information Center of Canada (VICC), which compiles insurance loss statistics in Canada, conducted a study comparing the frequency of theft claims per 100 vehicles for MY 1992 and 1993 Volkswagen Golf and Jetta lines. The standard alarm system had been installed on both lines for MY 1993. The results of the study showed a reduction in the frequency of theft claims per 100 vehicles for the Jetta and Golf vehicle lines in Canada. Specifically, the reductions ranged from 75% for the Jetta line to 90% for the Golf (4-door) vehicle line.

Further, VW stated that its Audi lines have historically demonstrated theft rates below the median theft rate (3.5826). VW cited the theft rankings of the 1995, 1996 and 1997 Audi A6 vehicle line equipped with an alarm system as standard equipment. The A6 was granted an exemption from the parts-marking standard beginning with MY 1995 (see 59 FR 55150, November 3, 1994). The theft rates for the 1995, 1996 and 1997 Audi A6 line were 0.5888, 0.3237 and 1.5512, respectively.

Based on the evidence submitted by VW, the agency believes that the antitheft device for the new vehicle line is likely to be as effective in reducing and deterring motor vehicle theft as compliance with the parts-marking requirements of the Theft Prevention Standard (49 CFR 541).

The agency believes that the device will provide the types of performance listed in 49 CFR Part 543.6(a)(3): Promoting activation; attracting attention to unauthorized entries; preventing defeat or circumvention of the device by unauthorized persons; preventing operation of the vehicle by unauthorized entrants; and ensuring the reliability and durability of the device.

As required by 49 U.S.C. 33106 and 49 CFR part 543.6(a) (4) and (5), the agency finds that VW has provided adequate reasons for its belief that the antitheft device will reduce and deter theft. This conclusion is based on the information VW provided about its device, much of which the agency has determined to be confidential. This confidential information included a description of reliability and functional tests conducted by VW for the antitheft device and its components.

For the foregoing reasons, the agency hereby grants in full VW's petition for exemption for the MY 2001 Audi allroad Quattro vehicle line from the parts-marking requirements of 49 CFR part 541. VW requested confidential treatment for some of the information and attachments submitted in support of its petition. In a letter to VW dated February 4, 2000, the agency granted the petitioner's request for confidential treatment of most aspects of its petition.

If VW decides not to use the exemption for this line, it should formally notify the agency. If such a decision is made, the line must be fully marked according to the requirements under 49 CFR parts 541.5 and 541.6 (marking of major component parts and replacement parts).

NHTSA notes that if VW wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: May 10, 2000.
Stephen R. Kratzke,
Associate Administrator for Safety Performance Standards.

[FR Doc. 00-12260 Filed 5-15-00; 8:45 am]

BILLING CODE 4910-59-P